COMMITTEE FOR PURCHASE FROM PEOPLE WHO ARE BLIND OR SEVERELY DISABLED

Procurement List; Proposed Additions and Deletion

AGENCY: Committee for Purchase From People Who Are Blind or Severely Disabled.

ACTION: Proposed additions to and deletion from the Procurement List.

SUMMARY: The Committee is proposing to add products and services to the Procurement List that will be furnished by nonprofit agencies employing persons who are blind or have other severe disabilities and delete a service previously provided by such agency.

Comments Must Be Received on or Before: 1/5/2015.

ADDRESSES: Committee for Purchase From People Who Are Blind or Severely Disabled, 1401 S. Clark Street, Suite 10800, Arlington, Virginia 22202-4149.

FOR FURTHER INFORMATION OR TO SUBMIT COMMENTS CONTACT: Barry S. Lineback, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the products and services listed below from nonprofit agencies employing persons who are blind or have other severe disabilities.

The following products and services are proposed for addition to the Procurement List for production by the nonprofit agencies listed:

Products

Toner Cartridge, Remanufactured, Lexmark

NSN: 7510-00-NSH-0212—Optra T630/T632/T634 Series Compatible.

NSN: 7510-00-NSH-1010—Optra T644/X644/X646 Series Compatible.

NSN: 7510-00-NSH-1060—E260/E360/E460/E462 Series Compatible.

NSN: 7510-00-NSH-1061—E360/E460/E462 Series Compatible.

NSN: 7510-00-NSH-1063—Multiple T & X Series, Compatible, 25,000 page.

NSN: 7510-00-NSH-1064—Multiple T & X Compatible, 36,000 page.

NPA: TRI Industries NFP, Chicago, IL.

Contracting Activity: General Services Administration, New York, NY.

Coverage: A-List for the Total Government Requirement as aggregated by the General Services Administration, New York, NY.

Services

Service Type/Locations: Custodial Service.

U.S. Navy, Naval Air Station Oceana and Naval Auxiliary Landing Field Fentress, U.S. Navy, Dam Neck Annex, 1750 Tomcat Boulevard, Virginia Beach, VA.

U.S. Navy, Naval Weapons Station, U.S. Navy, Cheatham Annex, 160 Main Road, Yorktown, VA.

U.S. Navy, Norfolk Naval Shipyard and St. Juliens Creek Annex, Cassin Ave and Hitchcock Street, Portsmouth, VA.

NPA: Didlake, Inc., Manassas, VA.

Contracting Activity: Dept of the Navy, Naval FAC Engineering CMD MID LANT, Norfolk, VA.

Service Type/Location: Operations and Maintenance.

Bureau of Engraving and Printing, Western Currency Facility, 9000 Blue Mound Road, Fort Worth, TX.

NPA: PRIDE Industries, Roseville, CA.

Contracting Activity: Dept of Treasury, Bureau of Engraving and Printing, Washington, DC.

Service Type/Locations: Facility Support Service.

Department of Homeland Security, ICE, Enforcement and Removal Operations Buffalo Command Center, 205 Oak Street, Batavia, NY.

Buffalo Federal Detention Facility, 4250 Federal Drive, Batavia, NY.

NPA: New Dynamics Corporation, Middletown, NY.

Contracting Activity: U.S. Immigration and Customs Enforcement, Detention Management—DC Office, Washington, DC.

Deletion

The following service is proposed for deletion from the Procurement List:

Service

Service Type/Location: Mess Attendant Service.

121st Air Refueling Wing, 7370 Minuteman Way, Redtail Dining Facility, Bldg. 917, Columbus, OH.

NPA: First Capital Enterprises, Inc., Chillicothe, OH.

Contracting Activity: Dept of the Army, W7NU USPFO ACTIVITY OH ARNG, Columbus, OH.

Barry S. Lineback,
Director, Business Operations.

[FR Doc. 2014-28563 Filed 12-4-14; 8:45 am]

BILLING CODE 6353-01-P